DEPARTMENT OF THE INTERIOR

Bureau of Land Management

[ES-960-1430-ET; MIES-50214]

Public Land Order No. 7600; Partial Revocation of Executive Order Dated July 24, 1875; Michigan

AGENCY: Bureau of Land Management, Interior.

ACTION: Public land order.

SUMMARY: This order partially revokes an Executive Order insofar as it affects 2.35 acres of public land reserved for use by the United States Coast Guard for the Point Betsie Light Station. This order makes the land available for conveyance under the Recreation and Public Purposes Act.

EFFECTIVE DATE: June 5, 2004.

FOR FURTHER INFORMATION CONTACT: Ed Ruda, BLM Eastern States Office, 7450 Boston Boulevard, Springfield, Virginia 22153, 703-440-1671.

SUPPLEMENTARY INFORMATION: The land is no longer needed by the United States Coast Guard and the partial revocation would allow for conveyance of the land under the Recreation and Public Purposes Act.

Order

By virtue of the authority vested in the Secretary of the Interior by Section 204 of the Federal Land Policy and Management Act of 1976, 43 U.S.C. 1714 (2000), it is ordered as follows:

1. The Executive Order dated July 24, 1875, which reserved public land for lighthouse purposes, is hereby revoked insofar as it affects the following described land:

Michigan Meridian

T. 18 N., R. 14 E.,

Sec. 4, lot 12.

The area described contains 2.35 acres in Benzie County as shown by the supplemental survey dated July 8, 1997.

2. The land described in Paragraph 1 is hereby made available for conveyance under the Recreation and Public Purposes Act, as amended, 43 U.S.C. 869 (2000).

Dated: March 23, 2004.
Rebecca W. Watson,
Assistant Secretary—Land and Minerals Management.

[FR Doc. 04-8159 Filed 4-9-04; 8:45 am]

BILLING CODE 4310-GJ-P